DEPARTMENT OF COMMERCE

National Oceanic and Atmospheric Administration

RIN 0648-XG182

Endangered and Threatened Species; Take of Anadromous Fish

AGENCY: National Marine Fisheries Service (NMFS), National Oceanic and Atmospheric Administration (NOAA), Commerce.

ACTION: Joint notice of receipt and notice of availability.

SUMMARY: Notice is hereby given that NMFS has received one permit application from the Monterey Peninsula Water Management District (District) to enhance propagation and survival of species listed under the Endangered Species Act (ESA) of 1973, as amended, for a five-year period (with a five-year renewal). As part of this permit application, the District has submitted a Rescue and Rearing Management Plan (RRMP). The RRMP specifies operational methods for South-Central California Coast (S-CCC) steelhead (Oncorhynchus mykiss) rescue, rearing, and relocation activities associated with the Sleepy Hollow Steelhead Rearing Facility (Facility). The Facility is located on the Carmel River on the Central California Coast. This document serves to notify the public of the availability of the permit application and associated RRMP for review and comment prior to a decision by NMFS whether to issue the permit. The permit application and associated RRMP can be viewed online at: http://www.westcoast.fisheries.noaa.gov/hatcheries/carmel_rrmp/carmel_rrmp_nor.html.

DATES: Comments or requests for a public hearing on applications must be received at the appropriate address or fax number (see Addresses) no later than 5:00 p.m. Pacific Standard Time on July 5, 2018.

ADDRESSES: Written comments on the application should be submitted to the California Coastal Office, NMFS, c/o Erin Seghesio, 777 Sonoma Avenue Room 325, Santa Rosa, CA 95404. Comments may also be submitted via fax to 707-578-3435, or by email to: WCR-shrescuemngt.comment@noaa.gov. Include in the subject line of the email the following identifier: Comments on Permit 14741.

FOR FURTHER INFORMATION CONTACT: Erin Seghesio at 707-578-8515, Erin.Seghesio@noaa.gov

SUPPLEMENTARY INFORMATION:

Species Covered in This Notice

The following listed species are covered in this notice:

Steelhead (Oncorhynchus mykiss): Threatened, South-Central California Coast (S-CCC).

Authority: Scientific research permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permit.

Any one requesting a hearing on an application listed in this notice should set out the specific reasons why a hearing on that application would be appropriate (see ADDRESSES). Such hearings are held at the discretion of the Assistant Administrator for Fisheries, NMFS.

Permit Applications Received

Permit 14741

The District has applied for a permit under section 10(a)(1)(A) of the ESA for a period of five years (with a five-year renewal) that would allow take of juvenile and adult steelhead from the threatened S-CCC Distinct Population Segment (DPS) pursuant to an RRMP, which was developed with technical assistance from NMFS. The objective of the District's program is to assist with the restoration, conservation, and maintenance of the steelhead population in the Carmel River Watershed as mitigation for environmental impacts caused by diversion of surface and subsurface streamflow in the lower 24 miles of the mainstem Carmel River. The program which was initiated in 1997, was necessary to ensure compliance with California Environmental Quality Act (CEQA) from the environmental impacts of California American Water Company's water withdrawals.

The RRMP will be implemented as an enhancement program at the Facility; actions taken pursuant to the permit are designed to enhance survival of S-CCC steelhead that are subject to annual low-flow river dryback. The RRMP incorporates three main components: (1) Rescue and relocation activities; (2) captive rearing activities; and (3) subsequent post-release monitoring. There is no captive spawning of steelhead reared at the facility.

Activities that constitute take of S-CCC steelhead and would be permitted include: Rearing, handling and transport, and tagging. The RRMP includes measures to minimize the likelihood of genetic or ecologic effects to naturally produced S-CCC steelhead resulting from operations at the Facility, and rescue and translocation activities. Post-release monitoring activities conducted by the District will collect necessary data to document achievement of performance indicators specified in the RRMP. For a more detailed discussion of these activities, please see the permit application.

Public Comments Solicited

NMFS invites the public to comment on the permit application and associated RRMP during a 30 day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the application, associated documents, and comments submitted during the comment period to determine whether the application meets the requirements of section 10(a)(1)(A) of the ESA and Federal regulations. The final permit decision will not be made until after the end of the 30-day public comment period and after NMFS has fully considered all relevant comments received. NMFS will publish public notice of its final action in the Federal Register.

Dated: May 29, 2018.
Angela Somma,
Chief, Endangered Species Division, Office of Protected Resources, National Marine Fisheries Service.

[FR Doc. 2018-11863 Filed 6-1-18; 8:45 am]

BILLING CODE 3510-22-P